DEPARTMENT OF TRANSPORTATION

Federal Aviation Administration

14 CFR Part 39

[Docket No. 99-CE-75-AD]

RIN 2120-AA64

Airworthiness Directives; Rolladen Schneider Flugzeugbau GmbH Models LS 4 and LS 4a Sailplanes

AGENCY: Federal Aviation Administration, DOT.

ACTION: Notice of proposed rulemaking (NPRM).

SUMMARY: This document proposes to adopt a new airworthiness directive (AD) that would apply to certain Rolladen Schneider Flugzeugbau GmbH (Rolladen Schneider) Models LS 4 and LS 4a sailplanes. The proposed AD would require you to inspect the airbrake system for damage and proper rigging, with correction, repair, or replacement, as necessary. The proposed AD would also require you to report any damage found to the Federal Aviation Administration (FAA). The proposed AD is the result of mandatory continuing airworthiness information (MCAI) issued by the airworthiness authority for Germany. The actions specified by the proposed AD are intended to detect and correct damage to the airbrake locking bracket caused by asymmetric loads. This condition could result in the pilot's inability to operate the airbrake controls, with consequent loss of sailplane control.

DATES: The Federal Aviation Administration (FAA) must receive any comments on this proposed rule on or before December 14, 2000.

ADDRESSES: Submit comments in triplicate to FAA, Central Region, Office of the Regional Counsel, Attention: Rules Docket No. 99-CE-75-AD, 901 Locust, Room 506, Kansas City, Missouri 64106. Comments may be inspected at this location between 8 a.m. and 4 p.m., Monday through Friday, holidays excepted.

Service information that applies to the proposed AD may be obtained from Rolladen-Schneider Flugzeugbau GmbH, Muhlstrasse 10, D-63329 Egelsbach, Germany; phone: ++ 49 6103 204126; facsimile: ++ 49 6103 45526. This information also may be examined at the Rules Docket at the address above.

FOR FURTHER INFORMATION CONTACT: Mr. Mike Kiesov, Aerospace Engineer, FAA, Small Airplane Directorate, 901 Locust, Room 301, Kansas City, Missouri 64106; telephone: (816) 329-4144; facsimile: (816) 329-4090.

SUPPLEMENTARY INFORMATION:

Comments Invited

How do I comment on the proposed AD? The FAA invites comments on this proposed rule. You may submit whatever written data, views, or arguments you choose. You need to include the rule's docket number and submit your comments in triplicate to the address specified under the caption ADDRESSES.The FAA will consider all comments received on or before the closing date. We may amend the proposed rule in light of comments received. Factual information that supports your ideas and suggestions is extremely helpful in evaluating the effectiveness of the proposed AD action and determining whether we need to take additional rulemaking action.

Are there any specific portions of the proposed AD I should pay attention to? The FAA specifically invites comments on the overall regulatory, economic, environmental, and energy aspects of the proposed rule that might suggest a need to modify the rule. You may examine all comments we receive before and after the closing date of the rule in the Rules Docket. We will file a report in the Rules Docket that summarizes each FAA contact with the public that concerns the substantive parts of the proposed AD.

We are re-examining the writing style we currently use in regulatory documents, in response to the Presidential memorandum of June 1, 1998. That memorandum requires federal agencies to communicate more clearly with the public. We are interested in your comments on whether the style of this document is clearer, and any other suggestions you might have to improve the clarity of FAA communications that affect you. You can get more information about the Presidential memorandum and the plain language initiative at http://www.plainlanguage.gov.

How can I be sure FAA receives my comment? If you want us to acknowledge the receipt of your comments, you must include a self-addressed, stamped postcard. On the postcard, write “Comments to Docket No. 99-CE-75-AD.” We will date stamp and mail the postcard back to you.

Discussion

What events have caused this proposed AD? The LBA, which is the airworthiness authority for Germany, recently notified FAA that an unsafe condition may exist on certain Rolladen Schneider Models LS 4 and LS 4a sailplanes. The LBA reports two occurrences of damaged airbrake locking brackets found on the above-referenced sailplanes. The damage was the result of improper rigging of the airbrake system. The asymmetric load that occurs over time with an improperly rigged airbrake system could result in cracks in the welding region of the airbrake tube and lateral deformation of the airbrake locking bracket.

What are the consequences if the condition is not corrected? Damage to the airbrake locking bracket, if not detected and corrected, could result in the pilot's inability to operate the airbrake controls with consequent loss of sailplane control.

Is there service information that applies to this subject? Rolladen Schneider has issued Technical Bulletin No. 4042, dated July 2, 1999.

What are the provisions of this service bulletin? The service bulletin specifies procedures for:

—Inspecting the airbrake locking bracket for deformation (indicated by cracks in paint, paint chipping off, and/or cracks in the welding region to the tube); and

—If any deformation exists, repairing or modifying the airbrake locking bracket by adding a brace that increases the structural strength of the bracket.

What action did the LBA take? The LBA classified this service bulletin as mandatory and issued German AD 1999-270, dated July 22, 1999, in order to assure the continued airworthiness of these sailplanes in Germany.

Was this in accordance with the bilateral airworthiness agreement? These sailplane models are manufactured in Germany and are type certificated for operation in the United States under the provisions of section 21.29 of the Federal Aviation Regulations (14 CFR 21.29) and the applicable bilateral airworthiness agreement.

Pursuant to this bilateral airworthiness agreement, the LBA has kept FAA informed of the situation described above.

The FAA's Determination and an Explanation of the Provisions of the Proposed AD

What has FAA decided? The FAA has examined the findings of the LBA; reviewed all available information, including the service information referenced above; and determined that:

—The unsafe condition referenced in this document exists or could develop on other Rolladen Schneider Models LS 4 and LS 4a sailplanes of the same type design;

—The actions specified in the previously-referenced service information should be accomplished on the affected sailplanes; and

—AD action should be taken in order to correct this unsafe condition.

What would the proposed AD require? This proposed AD would require you to:

—Inspect the airbrake locking bracket on the rear landing gear box for signs of fatigue (cracks in the paint, paint chips, or cracks in the welding region to the tube) and inspect for proper rigging of the airbrake system;

—Reassemble the airbrake system (if improper rigging is found), and if any sign of fatigue is evident, disassemble the airbrake system, repair or modify any airbrake locking bracket, and accomplish certain adjustments after reassembling the airbrake system; and

—Report any damage found to the FAA.

The FAA is proposing a reporting requirement so we can get an idea of how many sailplanes in the fleet have damaged or incorrectly rigged airbrake systems. We will utilize this information in deciding whether any of the proposed actions should be repetitive or whether we should initiate additional rulemaking.

Cost Impact

How many sailplanes would the proposed AD impact? We estimate that the proposed AD would affect 78 sailplanes in the U.S. registry.

What would be the cost impact of the proposed AD on owners/operators of the affected sailplanes? We estimate the following costs to accomplish the proposed inspection and any necessary reassembly:

Labor cost | Parts cost | Total cost per sailplane | Total cost on U.S. sailplane operators
1 workhour × $60 per hour = $60 | Not applicable | $60 per sailplane | $4,680

We estimate the following costs to accomplish any necessary modification that would be required based on the results of the proposed inspection. We have no way of determining the number of sailplanes that may need such modification:

Labor cost | Parts cost | Total cost per sailplane
2 workhours × $60 per hour = $120 | The manufacturer will modify the airbrake bracket free of charge | $120 per sailplane.

Compliance Time of the Proposed AD

What would be the compliance time of the proposed AD?The compliance time of this proposed AD is within the next 30 calendar days after the effective date of this AD.

Why is the compliance time presented in calendar time instead of hours time-in-service (TIS)? Damage to the airbrake locking brake occurs as a result of airplane operation. However, the reason the damage occurs is because of incorrect rigging of the airbrake system. We have determined that a calendar time for compliance is necessary because this incorrect rigging is not directly related to sailplane operation. The chance of this situation occurring is the same for a sailplane with 10 hours time-in-service (TIS) as it is for a sailplane with 500 hours TIS. For this reason, the FAA has determined that a compliance based on calendar time should be utilized in this AD in order to assure that the unsafe condition is addressed on all sailplanes in a reasonable time period.

Why is the compliance time of the proposed AD different than the German AD and the service information? The service information specifies the actions required in this proposed AD “prior to further flight” and the German AD mandates these actions “prior to further flight” for sailplanes registered for operation in Germany. The FAA does not have justification for requiring the action prior to further flight. Instead, the FAA has determined that 30 calendar days is a reasonable time period for accomplishing the actions in this proposed AD.

Regulatory Impact

Would this proposed AD impact various entities? The regulations proposed herein would not have a substantial direct effect on the States, on the relationship between the national government and the States, or on the distribution of power and responsibilities among the various levels of government. Therefore, it is determined that this proposed rule would not have federalism implications under Executive Order 13132.

Would this proposed AD involve a significant rule or regulatory action? For the reasons discussed above, I certify that this proposed action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act.

A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

Rolladen Schneider Flugzeugbau GMBH: Docket No. 99-CE-75-AD.

(a) What sailplanes are affected by this AD? This AD affects models LS 4 and LS 4a sailplanes, serial numbers 4000 through 4852, certificated in any category.

(b) Who must comply with this AD? Anyone who wishes to operate any of the above sailplanes must comply with this AD.

(c) What problem does this AD address? The actions specified by this AD are intended to detect and correct damage to the airbrake locking bracket caused by asymmetric loads. This condition could result in the pilot's inability to operate the airbrake controls with consequent loss of sailplane control.

(d) What actions must I accomplish to address this problem? To address this problem, you must accomplish the following:

Action | Compliance time | Procedures
(1) Inspect the airbrake locking bracket on the rear landing gear box for signs of fatigue (cracks in the paint, paint chips, or cracks in the welding region to the tube) and inspect for proper rigging of the airbrake system | Within the next 30 calendar days after the effective date of this AD. | Inspect for proper rigging in accordance with the procedures contained in the applicable maintenance manual. Inspect the airbrake locking bracket in accordance with the procedures contained in Rolladen Schneider Technical Bulletin No. 4042, dated July 2, 1999.
(2) If any sign of fatigue is evident, accomplish the following: (i) Disassemble the airbrake system; (ii) Obtain a modified airbrake locking bracket from the manufacturer (2-day turnaround time) and install this bracket; and (iii) Reassemble the airbrake system and accomplish the adjustments listed in the service bulletin | Accomplish all actions prior to further flight after the inspection required in paragraph (d)(1) of this AD | Accomplish the disassembly, installation, assembly, and adjustments in accordance with procedures contained in the applicable maintenance manual and the procedures in Rolladen Schneider Technical Bulletin No. 4042, dated July 2, 1999.
(3) If no signs of fatigue are found but the airbrake system is incorrectly assembled, disassemble the system and reassemble, including accomplishing the adjustments listed in the service bulletin | Accomplish all actions prior to further flight after the inspection required in paragraph (d)(1) of this AD | Accomplish in accordance with procedures contained in the applicable maintenance manual and the procedures in Rolladen Schneider Technical Bulletin No. 4042, dated July 2, 1999.
(4) If no signs of fatigue are found and the airbrake system is correctly assembled, then no further action is required by this AD | AD complied with | AD complied with.
(5) If any discrepancy is found that requires additional work as required by paragraphs (d)(2) and (d)(3) of this AD, then send information describing the discrepancies found and the follow-on work that was necessary to the FAA | Within 10 days after the inspection required by this AD or within 10 days after the effective date of this AD, whichever occurs later | Mail the information to: FAA, Small Airplane Directorate (ACE-112), Attention: Docket No. 99-CE-75-AD, 901 Locust, Room 301, Kansas City, Missouri 64106.

(e) Can I comply with this AD in any other way? You may use an alternative method of compliance or adjust the compliance time if:

(1) Your alternative method of compliance provides an equivalent level of safety; and

(2) The Manager, Small Airplane Directorate, approves your alternative. Submit your request through an FAA Principal Maintenance Inspector, who may add comments and then send it to the Manager, Small Airplane Directorate.

Note 1: This AD applies to each sailplane identified in paragraph (a) of this AD, regardless of whether it has been modified, altered, or repaired in the area subject to the requirements of this AD. For sailplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Mike Kiesov, Aerospace Engineer, Small Airplane Directorate, 901 Locust, Room 301, Kansas City, Missouri 64106; telephone: (816) 329-4121; facsimile: (816) 329-4091.

(g) What if I need to fly the sailplane to another location to comply with this AD? The FAA can issue a special flight permit under sections 21.197 and 21.199 of the Federal Aviation Regulations (14 CFR 21.197 and 21.199) to operate your sailplane to a location where you can accomplish the requirements of this AD.

(h) How do I get copies of the documents referenced in this AD? You may obtain copies of the documents referenced in this AD from Rolladen-Schneider Flugzeugbau GmbH, Muhlstrasse 10, D-63329 Egelsbach, Germany. You may examine these documents at FAA, Central Region, Office of the Regional Counsel, 901 Locust, Room 506, Kansas City, Missouri 64106.

Note 2: The subject of this AD is addressed in German AD 1999-270, dated July 22, 1999.

Issued in Kansas City, Missouri, on November 2, 2000.
Michael K. Dahl,
Acting Manager, Small Airplane Directorate, Aircraft Certification Service.

[FR Doc. 00-28832 Filed 11-8-00; 8:45 am]

BILLING CODE 4910-13-P